COMMISSION ON CIVIL RIGHTS

Sunshine Act Notice

AGENCY: United States Commission on Civil Rights.

ACTION: Notice of meeting.

Date and Time: Saturday, September 6, 2008; 11 a.m.

Place: Via Teleconference, Public Dial In—1-800-597-7623. Conference ID# 62348365.

Meeting Agenda

I. Approval of Agenda

II. Program Planning

• Consideration of FY 2010 Budget Estimate to OMB

III. Future Agenda Items

IV. Adjourn

FOR FURTHER INFORMATION CONTACT: Lenore Ostrowsky, Acting Chief, Public Affairs Unit (202) 376-8582.

Dated: August 27, 2008.
David Blackwood,
General Counsel.

[FR Doc. E8-20254 Filed 8-27-08; 4:15 pm]

BILLING CODE 6335-01-P